NUCLEAR REGULATORY COMMISSION

West Valley Citizen Task Force; Notice of Meeting

AGENCY: Nuclear Regulatory Commission.

ACTION: Notice of meeting.

SUMMARY: Representatives from the U.S. Nuclear Regulatory Commission (NRC), U.S. Environmental Protection Agency (EPA), and New York State Department of Environmental Conservation (NYSDEC) will present information relating to the decommissioning of the West Valley site to the West Valley Citizen Task Force (CTF). This meeting is sponsored by the CTF. The meeting is open to the public and all interested parties may attend.

DATES: May 22, 2003, from 7 p.m. to 9:30 p.m.

ADDRESSES: Ashford Office Complex, 9030 Route 219, Ashford Hollow, New York.

FOR FURTHER INFORMATION CONTACT: Chad Glenn, Mail Stop T7-F32, U.S. Nuclear Regulatory Commission, Washington, DC 20005-0001. Telephone: (301) 415-6722; FAX: (301) 415-5398; Internet: CJG1@NRC.GOV.

Dated in Rockville, Maryland, this 7th day of May, 2003.
For the Nuclear Regulatory Commission.
Claudia M. Craig,
Chief, Facilities Decommissioning Section, Division of Waste Management, Office of Nuclear Material Safety and Safeguards.

[FR Doc. 03-11959 Filed 5-13-03; 8:45 am]

BILLING CODE 7590-01-P